DEPARTMENT OF DEFENSE

Department of the Air Force

[USAF-2006-0012]

Privacy Act of 1974; System of Records

AGENCY: Department of the Air Force, DoD.

ACTION: Notice to alter a record system.

SUMMARY: The Department of the Air Force proposes to alter a system of records notice to its existing inventory of records systems subject to the Privacy Act of 1974 (5 U.S.C. 552a), as amended.

DATES: The actions will be effective on September 27, 2006 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 552a(r) of the Privacy Act of 1974, as amended, was submitted on August 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 21, 2006.
C.R. Choate,
Alternate OSD Federal Register Liaison Officer, Department of Defense.

F071 AF OSI D

System name:

Investigative Support Records (June 11, 1997, 62 FR 31973).

Changes:

* * * * *

System name:

Delete entry and replace with “Investigative Information Management System (I2MS).”

System location:

Delete entry and replace with “Headquarters, Air Force Office of Special Investigations (AFOSI), 1535 Command Drive, Andrews AFB, MD 20762-7002.”

Categories of individuals covered by the system:

Delete entry and replace with “Any individual involved in, or suspected of being involved in, crimes or acts of terrorism affecting U.S. interests (e.g., property located in or outside of the United States), U.S. nationals, and/or U.S. personnel. Individuals who provide information that is relevant to the investigation, such as victims and witnesses, and individuals who report such crimes or acts. Individuals may include, but are not limited to, active duty, retired or former military personnel; current, retired and former Air Force civilian employees; applicants for enlistment or appointment; Air Force academy cadets, applicants and nominees; dependents of active duty, retired or former military personnel; current and former Armed Forces Exchange employees; union or association personnel; civilian contracting officers and their representatives; employees of the Peace Corps, the State Department, and the American Red Cross; Department of Defense employees and contractors; and foreign nationals residing in the U.S. and abroad.”

Categories of records in the system:

Delete entry and replace with “Reports of investigation, collection reports, statements of individuals, affidavits, correspondence, and other documentation pertaining to criminal collection activities, investigative surveys, technical, forensic, polygraph, and other investigative support to criminal and counterintelligence investigations to include source control documentation and region indices.”

Add a second paragraph to read “Data on individuals (victims, witnesses, complainants, offenders, and suspects) involved in incidents may include, but is not limited to, name; digital photograph; Social Security Number; date of birth; place of birth; home address and telephone number; duty/work address and telephone number; alias; race; ethnicity; sex; marital status; identifying marks (tattoos), scars, etc.); height; weight; eye and hair color; biometric data; date, location, nature and details of the incident/offense to include whether alcohol, drugs and/or weapons were involved; driver's license information; tickets issued; vehicle information; whether bias against any particular group was involved or if offense involved sexual harassment; actions taken by military commanders (e.g., administrative and/or non-judicial measures, to include sanctions imposed); referral action; court-martial results and punishment imposed; confinement information, to include location of correctional facility, gain/cult affiliation if applicable; and release/parole/clemency eligibility dates.”

Authority for maintenance of the system:

Delete entry and replace with “10 U.S.C. Chapter 47, Uniform Code of Military Justice, and 8013, Secretary of the Air Fore; 18 U.S.C. 922 note, Brady Handgun Violence Prevention Act; 28 U.S.C. 534 note, Uniform Federal Crime Reporting Act; 42 U.S.C. 10601 et seq., Victims Rights and Restitution Act of 1990; and E.O. 9397; DoD Directive 7730.47, Defense Incident Based Reporting System (DIBRS).”

Purpose(s):

Delete entry and replace with “To conduct and exercise overall responsibility within the Department of Air Force for all matters pertaining to the investigation of alleged crimes and acts of terrorism committed against U.S. citizens, U.S. property or interest; used in judicial and adjudicative proceedings including litigation or in accordance with a court order; and reporting of statistical data to Department of Defense officials.

To assist (1) AFOSI and other Military commanders in directing and supporting criminal investigative, law enforcement, counterintelligence, and distinguished visitor protection program; (2) in managing the AFOSI criminal and counterintelligence investigative program at the various USAF and U.S. military installations worldwide; (3) USAF and other military commander sin identifying areas of possible criminality and in developing and managing the installation law enforcement, include crime prevention, program; (4) in managing the AFOSI source program; (5) in determining if, in fact, possible criminal activity requiring further specialized investigation is occurring in a specific area; (6) USAF and other authorized individuals to request AFOSI investigation; (7) USAF and other military commanders, as well as Department of Justice officials, to determine if judicial or administrative action is warranted; (8) in joint investigations by AFOSI and Federal, state, or local law enforcement agencies; (9) in joint investigations by AFOSI and foreign law enforcement agencies; (10) in developing and managing the AFOSI Distinguished Visitor Protection Program; (11) in developing and managing the AFOSI Investigative Survey Program for both appropriated and non-appropriated fun activities; (12) in recording technical investigative support provided to other investigative activities; (13) in reporting forensic and polygraph support to other investigative activities; (14) HQ USAF activities in the promotion, reassignment, and similar personnel actions for Air Force personnel only.

To serve as a repository of criminal and non-criminal incidents used to satisfy statutory and regulatory reporting requirements: to provide crime statistics required by the Department of Justice (DoJ) under the Uniform Federal Crime Reporting Act; to provide personal information required by the DoJ under the Brady Handgun Violence Prevention Act; to provide statistical information required by DoD under the Victim's Rights and Restitution Act; to enhance AF's capability to analyze trends and to respond to executive, legislative, and oversight requests for statistical crime data relating to criminal and other high-interest incidents; to provide such data as other federal laws may require.”

Routine uses of records maintained in the system, including categories of users and the purposes of such uses:

Delete second paragraph and replace with “To the United States Citizenship and Immigration Service for purposes of immigration and naturalization investigations.”

Delete third paragraph and replace with “To Federal medical and forensic laboratory personnel to assist in making laboratory tests and medical examinations in support of the investigative, judicial, and administrative process.

To the Central Intelligence Agency (CIA), Federal Bureau of Investigation (FBI), and other counterintelligence/intelligence agencies in matters pertaining to hostile intelligence activities and terrorism directed against the U.S., its installations, personnel, and allies.”

Delete fourth paragraph and replace with “To the Department of Veterans Affairs for purposes of verifying and settling claims.”

Delete fifth paragraph and replace with “To the Department of State and U.S. embassies overseas for purposes of providing information affecting U.S. diplomatic relations with foreign nations.”

Delete sixth paragraph and replace with “To the U.S. Secret Service for purposes of aiding and assisting in the provision of protective services to the President, Vice President, and other designated officials.”

Add a new routine to read “To the Department of Justice for criminal reporting purposes as required by the Brady Handgun Violence Prevention Act.”

Add a new routine use to read “To courts and state, local, and foreign law enforcement agencies for purpose of criminal or civil investigative or judicial proceedings.”

Add a new routine use to read “To victims and witnesses for purposes of complying with the requirements of the Victim and Witness Assistance Program, the Sexual Assault Prevention and Response Program, and the Victims' Rights and Restitution Act of 1990.”

Policies and practices for storing, retrieving, accessing, retaining, and disposing of records in the system:

Storage:

Delete entry and replace with “Maintained on computers and computer output products; maintained in file folders, video and audio tape.”

Retrievability:

Delete entry and replace with “Retrieved by Name, Social Security Number, or Case File Number.”

Safeguards:

Delete entry and replace with “Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.”

Retention and disposal:

Delete entry and replace with “Record paper and electronic copies of criminal and counterintelligence investigative cases at HQ AFOSI are retained under the same criteria assigned to the substantive case supported (as determined by Public Law and/or DoD and Air Force records retention rules).

At AFOSI field units, documentation is transferred to HQ AFOSI/XILI and once receipt is confirmed it is destroyed at the field unit after 90 days for criminal or one year for counterintelligence cases, after command action is reported to HQ AFOSI, or when no longer needed, whichever is sooner.

Source control documentation at HQ AFOSI is destroyed after 25 years. At AFOSI field units, hard copy source documentation is destroyed one year after termination of source use.

Paper copies furnished USAF Commanders are destroyed when all actions are completed and reported to AFOSI or when no longer needed.

At HQ AFOSI, all copies of reciprocal investigations conducted on request of a local, state or federal investigative agency in the US, or host country investigative agencies overseas, are destroyed after one year. Copies retained by AFOSI field units are destroyed after 90 days.”

System manager(s) and address:

Delete entry and replace with “Director of Warfighting Integration, HQ AFOSI/XI, 1535 Command Drive, Andrews AFB, MD 20762-7002.”

Notification procedure:

Delete entry and replace with “Individuals seeking to determine whether information about themselves is contained in this system of records should address written inquiries to the Chief, Information Release Branch, HQ AFOSI/XILI, ATTN: Freedom of Information/Privacy Act Officer, PO Box 2218, Waldorf, MD 20604-2218, or via e-mail to fileroom@ogn.af.mil.”

Record access procedure:

Delete entry and replace with “Individuals seeking access to information about themselves should address written inquiries to the Chief, Information Release Branch, HQ AFOSI/XILI, ATTN: Freedom of Information/Privacy Act Officer, PO Box 2218, Waldorf, MD 20604-2218, or via e-mail to fileroom@ogn.af.mil.”

Contesting record procedures:

Delete entry and replace with “The Air Force rules for accessing records, and for contesting contents and appealing initial agency determinations are published in Air Force Instruction 33-332; 32 CFR part 806b; or may be obtained from the system manager.”

Record source categories:

Delete entry and replace with “Individuals (suspects, witnesses, victims, informants, DoD personnel and other individuals); DoD record systems; Federal, state, local, and foreign law enforcement agencies; Federal, state, local and foreign governmental agencies and non-governmental organizations; and other sources that may provide pertinent information relevant to the investigative proceedings.”

* * * * *

F071 AF OSI D

System name:

Investigative Information Management System (I2MS)

System location:

Headquarters, Air Force Office of Special Investigations (AFOSI), 1535 Command Drive, Andrews AFB, MD 20762-7002.

Categories of individuals covered by the system:

Any individual involved in, or suspected of being involved in, crimes or acts of terrorism affecting U.S. interests (e.g., property located in or outside of the United States), U.S. nationals, and/or U.S. personnel. Individuals who provide information that is relevant to the investigation, such as victims and witnesses, and individuals who report such crimes or acts. Individuals may include, but are not limited to, active duty, retired or former military personnel; current, retired and former Air Force civilian employees; applicants for enlistment or appointment; Air Force academy cadets, applicants and nominees; dependents of active duty, retired or former military personnel; current and former Armed Forces Exchange employees; union or association personnel; civilian contracting officers and their representatives; employees of the Peace Corps, the State Department, and the American Red Cross; Department of Defense employees and contractors; and foreign nationals residing in the U.S. and abroad.

Categories of records in the system:

Reports of investigation, collection reports, statements of individuals, affidavits, correspondence, and other documentation pertaining to criminal collection activities, investigative surveys, technical, forensic, polygraph, and other investigative support to criminal and counterintelligence investigations to include source control documentation and region indices.

Data on individuals (victims, witnesses, complainants, offenders, and suspects) involved in incidents may include, but is not limited to, name; digital photograph; Social Security Number; date of birth; place of birth; home address and telephone number; duty/work address and telephone number; alias; race; ethnicity; sex; marital status; identifying marks (tattoos, scars, etc.); height; weight; eye and hair color; biometric data; date, location, nature and details of the incident/offense to include whether alcohol, drugs and/or weapons were involved; driver's license information; tickets issued; vehicle information; whether bias against any particular group was involved or if offense involved sexual harassment; actions taken by military commanders (e.g., administrative and/or non-judicial measures, to include sanctions imposed); referral actions; court-martial results and punishments imposed; confinement information, to include location of correctional faculty, gang/cult affiliation if applicable; and release/parole/clemency eligibility dates.

Authority for maintenance of the system:

10 U.S.C. Chapter 47, Uniform Code of Military Justice, and 8013, Secretary of the Air Force; 18 U.S.C. 922 note, Brady Handgun Violence Prevention Act; 28 U.S.C. 534 note, Uniform Federal Crime Reporting Act; 42 U.S.C. 10601 et seq., Victims Rights and Restitution Act of 1990; and E.O. 9397; DoD Directive 7730.47, Defense Incident Based Reporting System (DIBRS).

Purpose(s):

To conduct and exercise overall responsibility within the Department of Air Force for all matters pertaining to the investigation of alleged crimes and acts of terrorism committed against U.S. citizens, U.S. property or interests; used in judicial and adjudicative proceedings including litigation or in accordance with a court order; and reporting of statistical data to Department of Defense officials.

To assist (1) AFOSI and other military commanders in directing and supporting criminal investigative, law enforcement, counterintelligence, and distinguished visitor protection programs; (2) in managing the AFOSI criminal and counterintelligence investigative program at the various USAF and U.S. military installations worldwide; (3) USAF and other military commanders in identifying areas of possible criminality and in developing and managing the installation law enforcement, to include crime prevention, programs; (4) in managing the AFOSI source program; (5) in determining if, in fact, possible criminal activity requiring further specialized investigation is occurring in a specific area; (6) USAF and other authorized individuals to request AFOSI investigations; (7) USAF and other military commanders, as well as Department of Justice officials, to determine if judicial or administrative action is warranted; (8) in joint investigations by AFOSI and Federal, state, or local law enforcement agencies; (9) in joint investigations by AFOSI and foreign law enforcement agencies; (10) in developing and managing the AFOSI Distinguished Visitor Protection Program; (11) in developing and managing the AFOSI Investigative Survey Program for both appropriated and non-appropriated fund activities; (12) in recording technical investigative support provided to other investigative activities; (13) in reporting forensic and polygraph support to other investigative activities; (14) HQ USAF activities in the promotion, reassignment, and similar personnel actions for Air Force personnel only.

To serve as a repository of criminal and non-criminal incidents used to satisfy statutory and regulatory reporting requirements: to provide crime statistics required by the Department of Justice (DoJ) under the Uniform Federal Crime Reporting Act; to provide personal information required by the DoJ under the Brady Handgun Violence Prevention Act; to provide statistical information required by DoD under the Victim's Rights and Restitution Act; to enhance AF's capability to analyze trends and to respond to executive, legislative, and oversight requests for statistical crime data relating to criminal and other high-interest incidents; to provide such data as other federal laws may require.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the United States Citizenship and Immigration Service for purposes of immigration and naturalization investigations.

To Federal medical and forensic laboratory personnel to assist in making laboratory tests and medical examinations in support of the investigative, judicial, and administrative process.

To the Central Intelligence Agency (CIA), Federal Bureau of Investigation (FBI), and other counterintelligence/intelligence agencies in matters pertaining to hostile intelligence activities and terrorism directed against the U.S., its installations, personnel, and allies.

To the Department of Veterans Affairs for purposes of verifying and settling claims.

To the Department of State and U.S. embassies overseas for purposes of providing information affecting U.S. diplomatic relations with foreign nations.

To the U.S. Secret Service for purposes of aiding and assisting in the provision of protective services to the President, Vice President, and other designated officials.

To the Department of Justice for criminal reporting purposes as required by the Brady Handgun Violence Prevention Act.

To courts and state, local, and foreign law enforcement agencies for purposes of criminal or civil investigative or judicial proceedings.”

To victims and witnesses for purposes of complying with the requirements of the Victim and Witness Assistance Program, the Sexual Assault Prevention and Response Program, and the Victims' Rights and Restitution Act of 1990.

The DoD ‘Blanket Routine Uses’ published at the beginning of the Air Force's compilation of systems of records notices apply to this system.

Policies and practices for storing, retrieving, accessing, retaining, and disposing of records in the system:

Storage:

Maintained on computers and computer output products; maintained in file folders, video and audio tape.

Retrievability:

Retrieved by Name, Social Security Number, or Case File Number.

Safeguards:

Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.

Retention and disposal:

Record paper and electronic copies of criminal and counterintelligence investigative cases at HQ AFOSI are retained under the same criteria assigned to the substantive case supported (as determined by Public Law and/or DoD and Air Force records retention rules).

At AFOSI field units, documentation is transferred to HQ AFOSI/XILI and once receipt is confirmed it is destroyed at the field unit after 90 days for criminal or one year for counterintelligence cases, after command action is reported to HQ AFOSI, or when no longer needed, whichever is sooner.

Source control documentation at HQ AFOSI is destroyed after 25 years. At AFOSI field units, hard copy source documentation is destroyed one year after termination of source use.

Paper copies furnished USAF Commanders are destroyed all when all actions are completed and reported to AFOSI or when no longer needed.

At HQ AFOSI, all copies of reciprocal investigations conducted on request of a local, state or federal investigative agency in the U.S., or host country investigative agencies overseas, are destroyed after one year. Copies retained by AFOSI field units are destroyed after 90 days.

System manager(s) and address:

Director of Warfighting Integration, HQ AFOSI/XI, 1535 Command Drive, Andrews AFB, MD 20762-7002.

Notification procedure:

Individuals seeking to determine whether information about themselves is contained in this system of records should address written inquiries to the Chief, Information Release Branch, HQ AFOSI/XILI, ATTN: Freedom of Information/Privacy Act Officer, P.O. Box 2218, Waldorf, MD 20604-2218-, or via e-mail to fileroom@ogn.af.mil.

Record access procedures:

Individuals seeking access to information about themselves should address written inquiries to the Chief, Information Release Branch, HQ AFOSI/XILI, ATTN: Freedom of Information/Privacy Act Officer, P.O. Box 2218, Waldorf, MD 20604-2218-, or via e-mail to fileroom@ogn.af.mil.

Contesting record procedures:

The Air Force rules for accessing records, and for contesting contents and appealing initial agency determinations are published in Air Force Instruction 33-332; 32 CFR part 806b; or may be obtained from the system manager.

Record source categories:

Individuals (suspects, witnesses, victims, informants, DoD personnel and other individuals); DoD record systems; Federal, state, local, and foreign law enforcement agencies; Federal, state, local and foreign governmental agencies and non-governmental organizations; and other sources that may provide pertinent information relevant to the investigative proceedings.

Exemptions claimed for the system:

Parts of this system may be exempt under 5 U.S.C. 552a(j)(2), as applicable.

An exemption rule for this record system has been promulgated in accordance with 5 U.S.C. 553(b)(1), (2) and (3) and (e) and published in 32 CFR part 806b. For additional information contact the system manager.

[FR Doc. 06-7186 Filed 8-25-06; 8:45 am]

BILLING CODE 5001-06-M